DEPARTMENT OF HEALTH AND HUMAN SERVICES

National Institutes of Health

National Institute of General Medical Sciences; Amended Notice of Meeting

Notice is hereby given of a change in the meeting of the National Advisory General Medical Sciences Council, September 09, 2021, 09:00 a.m. to September 09, 2021, 04:30 p.m., National Institutes of Health, Natcher Building, 6707 Democracy Boulevard, Bethesda, MD, 20892 which was published in the Federal Register on June 24, 2021, FR Doc 2021-13377, 86 FR 33322.

This notice is being amended to change the meeting location from National Institutes of Health, Natcher Building, 6707 Democracy Boulevard, Bethesda, MD, 20892 to National Institutes of Health, Natcher Building, 45 Center Drive, Bethesda, MD 20892 to a virtual meeting. The url link to this meeting is: https://www.nigms.nih.gov/about-nigms/what-we-do/advisory-council. Any member of the public may submit written comments no later than 15 days after the meeting. The meeting is partially Closed to the public.

Dated: July 23, 2021.
Miguelina Perez,
Program Analyst, Office of Federal Advisory Committee Policy.

[FR Doc. 2021-16069 Filed 7-27-21; 8:45 am]

BILLING CODE 4140-01-P